DEPARTMENT OF EDUCATION

Applications for New Awards; Demonstration Grants for Indian Children and Youth Program—Native American Teacher Retention Initiative

AGENCY: Office of Elementary and Secondary Education, Department of Education.

ACTION: Notice.

SUMMARY: The Department of Education (Department) is issuing a notice inviting applications for new awards for fiscal year (FY) 2023 for Demonstration Grants for Indian Children and Youth Program (Demonstration program)—Native American Teacher Retention Initiative (NATRI), Assistance Listing Number (ALN) 84.299A. This notice relates to the approved information collection under OMB control number 1810-0722.

DATES:

Applications Available: May 23, 2023.

Deadline for Notice of Intent to Apply: June 22, 2023.

Date of Pre-Application Webinar: June 7, 2023.

Deadline for Transmittal of Applications: July 24, 2023.

Deadline for Intergovernmental Review: September 20, 2023.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs. Please note that these Common Instructions supersede the version published on December 27, 2021.

FOR FURTHER INFORMATION CONTACT: Donna Bussell, U.S. Department of Education, 400 Maryland Avenue SW, Room 3W239, Washington, DC 20202-6335. Telephone: 202-453-6813. Email: donna.bussell@ed.gov.

If you are deaf, hard of hearing, or have a speech disability and wish to access telecommunications relay services, please dial 7-1-1.

SUPPLEMENTARY INFORMATION:

Full Text of Announcement

I. Funding Opportunity Description

Purpose of Program: The purpose of the Demonstration program is to provide financial assistance to projects that develop, test, and demonstrate the effectiveness of services and programs to improve the educational opportunities and achievement of Indian students attending preschool, elementary, and secondary schools.

Background: The joint explanatory statement accompanying the Consolidated Appropriations Act, 2023 (joint explanatory statement) directed the Department to use at least $2,750,000 of funds available for the Demonstration program for “a teacher retention-initiative to help address the shortage of Native American educators and expand their impact on Native American students' education” and recommended that the initiative support “teacher leadership models to increase the retention of effective, experienced Native American teachers.”

This competition will fund projects that meet the purpose of the Demonstration program as described in the absolute priority and encourages projects that support Native American teacher retention in keeping with the directive from the joint explanatory statement and in recognition of the positive impact that Native American teachers have on educational opportunities and achievement for Native American students. Through an invitational priority, the Department encourages projects that provide Native American teachers with leadership responsibilities, facilitate professional learning with peers, and help develop resources to meet students' unique academic and social-emotional needs.

One critical means of improving educational opportunities and achievement of Indian children and youth is addressing the need for Native American teachers in educational settings that serve Native American children and youth. Ninety-three percent of all Native American students attend public schools, where they make up 1 percent of the total student population. (NCES, 2021).¹ Yet only .5 percent of public school teachers identify as American Indian/Alaska Native (NCES, 2018).²

¹ National Center for Education Statistics (NCES), Common Core of Data, Public Elementary/Secondary School Universe Survey, 2020-21 v.1a.

² NCES, National Teacher and Principal Survey, 2017-2018, https://nces.ed.gov/surveys/ntps/tables/ntps1718_200724_t1n.asp.

In many schools there is “little to no exposure to Indigenous teachers and funds of knowledge” and Native American students “are burdened with various obstacles such as low teacher expectations, inappropriate tracking into special education, and unfair disciplinary practices” (Anthony-Stevens, V., Mahfouz, J., & Bisbee, Y. 2020).³ By contrast, cultural acknowledgement and teaching has been linked with improved outcomes for Native American students. “[A]cademic performance is associated with educational experiences structured around local knowledge, culture, and language” (Beaulieu, Figueira, Viri, 2005).⁴

³ Anthony-Stevens, V., Mahfouz, J., & Bisbee, Y. (2020). Indigenous Teacher Education Is Nation Building: Reflections of Capacity Building and Capacity Strengthening in Idaho. Journal of School Leadership, 30(6), 541-564.

⁴ Beaulieu, D., Figueira, A.M., Viri, D. (2005). Indigenous Teacher Education: Research-Based Model. Australian Association for Research in Education.

Research suggests that the quality of a student's teacher matters more than any other school-related factor (Rand, 2023) ⁵ and that teachers play an important role in educating students about Native American knowledge, culture, and language. When Native American and Alaska Native students in the fourth and eighth grade were asked who taught them most of what they know about Native American history, language, and traditions, they ranked teachers second only to their families (NCES, 2019).⁶ Yet 60 percent of those students had teachers who reported never attending professional development programs aimed at developing culturally specific instructional practices for American Indian/Alaska Native students over the past two years (NCES, 2019).⁷ Because teachers play a unique role in educating Native American students about their history, language, and traditions, thereby increasing cultural acknowledgement and thus improving educational outcomes, the Department supports projects that promote the recruitment and retention of experienced, effective, and well-trained teachers who can incorporate Native American knowledge, culture, and language into their work.

⁵ See RAND Education, “Teachers Matter: Understanding Teachers' Impact on Student Achievement,” http://www.rand.org/education/projects/measuring-teacher-effectiveness/teachers-matter.html (last accessed April 26, 2023).

⁶ NCES, National Indian Education Study, 2019, 13-14. https://nces.ed.gov/nationsreportcard/subject/publications/studies/pdf/2021018.pdf.

⁷ Id. at 30.

Due to the Federal Government's unique political and legal relationship with Tribes—as set forth in the Constitution of the United States, treaties, Federal law, and Executive orders—the Department held a virtual Tribal consultation on January 24, 2023. This consultation was announced through various external listservs and social media. The Department requested input from Tribal Nations on which of the three priority options from the Secretary's Supplemental Priority 3 (SSP3) would best support a Native American teacher retention initiative. The majority of Tribal leaders expressed that teacher training and retention ought to be prioritized, starting with option three of the SSP3, “building educator capacity by professional development for school leaders to improve mastery of leadership skills and for teachers in creating safe, healthy, inclusive, and productive classroom environments.” Other Tribal leaders expressed the importance of ensuring that teaching is seen as a viable profession for students to pursue. For example, Tribal leaders supported such enticements for teachers to stay in schools serving Native American students as higher salaries and other benefits that could keep teachers from leaving the profession or finding better opportunities in higher-paying areas. Additionally, Tribal leaders also expressed the need for more “grow your own” programs that support members of a school community in becoming educators and can certify more Native people to become teachers. Tribal leaders said that exposing Native American students to more Native American teachers would allow the students to know teaching is an option for them. To incorporate Tribal leader input, the Department is including an invitational priority that allows applicants to propose a teacher retention initiative to help address the shortage of Native American educators and expand their impact on Native American students' education.

The Department also requested input from Tribal Nations on identifying challenges that impact Native teacher retention, what can be done to overcome these challenges, and whether there are any known innovative teacher leadership models to increase retention of effective, experienced Native American teachers. The majority of Tribal leaders expressed that programs that facilitate continuing education and foster meaningful connections for teachers, such as mentorship programs and group cohorts, have proven to be effective for some school districts. There are other barriers to teacher retention, though, such as salaries and housing availability or housing costs. The Department is including an invitational priority that will benefit Native American students by encouraging projects designed to retain Native American teachers and provide important support for Native American teachers through teacher leadership models.

If an applicant chooses to address the invitational priority, the applicant could propose a project that is designed to retain educators, particularly through building teacher leadership models for teachers from traditionally underrepresented backgrounds and the communities they serve, and provide Native American teachers the opportunity to do one or more of the following:

(1) Carry out leadership responsibilities that come with increased compensation while maintaining a role as a classroom instructor. For example, leadership responsibilities could include—

(a) Collecting and analyzing data of student academic and social-emotional outcomes or teacher professional outcomes and taking actions to improve student outcomes, teacher outcomes, or professional learning, informed by such data; or

(b) Evaluating and implementing strategies aimed at addressing areas of demonstrated need in the school where the teacher is employed, including increasing wraparound services, academic supports, family engagement, and community-based services;

(2) Facilitate, lead, or engage in sustained professional learning with peers that is collaborative and based in evidence, research, and practice;

(3) Analyze socioeconomic, cultural, and historical contexts of students and their communities, including existing pedagogy, school policies, and school-based outreach to families and community organizations, to create learning environments that are more inclusive of and responsive to student and teacher needs, including cultural, linguistic, and socioeconomic needs;

(4) Support teachers to effectively serve students with disabilities, English learners, and students who are linguistically, racially, and culturally diverse, economically disadvantaged, or historically underrepresented to increase their academic achievement or social-emotional learning; and

(5) Use, customize, or develop lesson plans, materials, and instructional resources to meet the unique needs of students to further students' academic achievement and social and emotional learning.

Under 34 CFR 263.23(a), this Demonstration grant award is primarily for the benefit of Indians and is subject to the provisions of section 7(b) of the Indian Self-Determination and Education Assistance Act (Pub. L. 93-638).

Priorities: This competition includes one absolute priority, one competitive preference priority, and one invitational priority. In accordance with 34 CFR 75.105(b)(2)(v), the absolute priority is from sections 6102(3) and 6121 of the ESEA (20 U.S.C. 7402 and 7441). In accordance with 34 CFR 75.105(b)(2)(ii), the competitive preference priority is from 34 CFR 263.21(b)(1).

Absolute Priority: For FY 2023 and any subsequent year in which we make awards from the list of unfunded applications from this competition, this priority is an absolute priority. Under 34 CFR 75.105(c)(3), we consider only applications that meet this priority.

This priority is:

Demonstration Grants.

To meet this priority, an applicant must propose a project to develop, test, and demonstrate the effectiveness of services and programs to improve educational opportunities and achievement of Indian children and youth. Proposed projects must be designed to ensure that—

(a) Teachers, principals, other school leaders, and other staff who serve Indian students have the ability to provide culturally appropriate and effective instruction and supports to such students; and

(b) Indian students gain knowledge and understanding of Native communities, languages, tribal histories, traditions, and cultures.

Proposed projects must focus on one or more of the following priority areas:

(1) Activities that recognize and support the unique cultural and educational needs of Indian children and youth, and incorporate traditional leaders.

(2) Educational services that are not available to such children and youth in sufficient quantity or quality, including remedial instruction, to raise the achievement of Indian children in one or more of the subjects of English, mathematics, science, foreign languages, art, history, and geography.

(3) Comprehensive guidance, counseling, and testing services.

(4) High-quality professional development of teaching professionals and paraprofessionals.

Competitive Preference Priority: For FY 2023 and any subsequent year in which we make awards from the list of unfunded applications from this competition, this priority is a competitive preference priority. Under 34 CFR 263.21(b)(1) we award an additional 5 points to an application that meets the competitive preference priority.

This priority is:

Tribal Lead Applicants (0 or 5 points).

To meet this priority, an application must be submitted by an Indian Tribe, Indian organization, school funded by the Bureau of Indian Education (BIE-funded school), or Tribal college or university (TCU) that is eligible to participate in the Demonstration Grants for Indian Children and Youth program. A group application submitted by a consortium that meets the requirements of 34 CFR 75.127 through 75.129 or is eligible to receive the preference only if the lead applicant for the consortium is the Indian Tribe, Indian organization, BIE-funded school, or TCU.

Invitational Priority: For FY 2023 and any subsequent year in which we make awards from the list of unfunded applications from this competition, this priority is an invitational priority. Under 34 CFR 75.105(c)(1) an application that meets the priority receives no competitive or absolute preference over applications that do not meet the priority.

This priority is:

Native American Teacher Retention Initiative (NATRI).

To meet this priority, an applicant must propose an educator retention initiative to help address the shortage of Native American educators and expand their impact on Native American students' education. The initiative must support teacher leadership models to increase the retention of effective, experienced Native American teachers who will assist in ensuring that Native American students gain knowledge and understanding of Native communities, languages, Tribal histories, traditions, and cultures as outlined in the absolute priority for this competition.

For purposes of this priority—

“Educator” means an individual who is an early learning educator, teacher, principal or other school leader, specialized instructional support personnel (e.g., school psychologist, counselor, school social worker, early intervention service personnel), paraprofessional, or faculty.

“Native American” means a member of a federally recognized Indian Tribe.

Application Requirements: For FY 2023 and any subsequent year in which we make awards from the list of unfunded applications from this competition, applicants must meet the following application requirements, which are from section 6121 of the ESEA (20 U.S.C. 7441) and 34 CFR 263.22. Each application must contain—

(a) A description of how Indian Tribes and parents and families of Indian children and youth have been, and will be, involved in developing and implementing the proposed activities;

(b) Assurances that the applicant will participate, at the request of the Secretary, in any national evaluation of this program;

(c) Information demonstrating that the proposed project is evidence-based, where applicable, or is based on an existing evidence-based program that has been modified to be culturally appropriate for Indian students;

(d) A description of how the applicant will continue the proposed activities once the grant period is over; and

Statutory Hiring Preference:

Awards are subject to the provisions of section 7(b) of the Indian Self-Determination and Education Assistance Act (Pub. L. 93-638). To the greatest extent feasible, a grantee must—

(1) Give to Indians preferences and opportunities for training and employment in connection with the administration of the grant; and

(2) Give to Indian organizations and to Indian-owned economic enterprises, as defined in section 3 of the Indian Financing Act of 1974 (25 U.S.C. 1452(e)), preference in the award of contracts in connection with the administration of the grant.

For purposes of this preference, an Indian is a member of any federally recognized Indian Tribe. (25 U.S.C. 1452(b)).

Definitions: The following definitions apply to this competition. The definition of “evidence-based” is from section 8101(21) of the ESEA (20 U.S.C. 7801(21)). The definitions of “Indian,” “Indian organization,” “parent,” “professional development,” and “Tribal college or university” are from 34 CFR 263.20. The definitions of “demonstrates a rationale,” “relevant outcome,” “project component,” and “logic model” are from 34 CFR 77.1. The definition of “traditional leaders” is from section 103 of the Native American Languages Act (25 U.S.C. 2902).

Demonstrates a rationale means a key project component included in the project's logic model is informed by research or evaluation findings that suggest the project component is likely to improve relevant outcomes.

Evidence-based, when used with respect to a State, local educational agency, or school activity, means an activity, strategy, or intervention that—

(1) Demonstrates a statistically significant effect on improving student outcomes or other relevant outcomes based on—

(i) Strong evidence from at least 1 well-designed and well-implemented experimental study;

(ii) Moderate evidence from at least 1 well-designed and well-implemented quasi-experimental study; or

(iii) Promising evidence from at least 1 well-designed and well-implemented correlational study with statistical controls for selection bias; or

(2)(i) Demonstrates a rationale based on high-quality research findings or positive evaluation that such activity, strategy, or intervention is likely to improve student outcomes or other relevant outcomes; and

(ii) Includes ongoing efforts to examine the effects of such activity, strategy, or intervention.

Indian means an individual who is—

(1) A member of an Indian tribe or band, as membership is defined by the Indian tribe or band, including any tribe or band terminated since 1940, and any tribe or band recognized by the State in which the tribe or band resides;

(2) A descendant of a parent or grandparent who meets the requirements described in paragraph (1) of this definition;

(3) Considered by the Secretary of the Interior to be an Indian for any purpose;

(4) An Eskimo, Aleut, or other Alaska Native; or

(5) A member of an organized Indian group that received a grant under the Indian Education Act of 1988 as it was in effect on October 19, 1994.

Indian organization means an organization that—

(1) Is legally established—

(i) By tribal or inter-tribal charter or in accordance with State or tribal law; and

(ii) With appropriate constitution, by-laws, or articles of incorporation;

(2) Includes in its purposes the promotion of the education of Indians;

(3) Is controlled by a governing board, the majority of which is Indian;

(4) If located on an Indian reservation, operates with the sanction of or by charter from the governing body of that reservation;

(5) Is neither an organization or subdivision of, nor under the direct control of, any institution of higher education or TCU; and

(6) Is not an agency of State or local government.

Logic model (also referred to as a theory of action) means a framework that identifies key project components of the proposed project (i.e., the active “ingredients” that are hypothesized to be critical to achieving the relevant outcomes) and describes the theoretical and operational relationships among the key project components and relevant outcomes.

Professional development means in-service training offered to enhance the skills and abilities of individuals that may be part of, but not exclusively, the activities provided in a Demonstration Grants for Indian Children and Youth program.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Traditional leaders includes Native Americans who have special expertise in Native American culture and Native American languages.

Tribal College or University (TCU) means an accredited college or university within the United States cited in section 532 of the Equity in Educational Land-Grant Status Act of 1994, any other institution that qualifies for funding under the Tribally Controlled College or University Assistance Act of 1978, and the Navajo Community College, authorized in the Navajo Community College Assistance Act of 1978.

Program Authority: 20 U.S.C. 7441.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 263.

Note: The regulations in 34 CFR part 79 apply to all applicants except federally recognized Indian Tribes.

Note: The regulations in 34 CFR part 86 apply to institutions of higher education only.

II. Award Information

Type of Award: Discretionary grants.

Estimated Available Funds: $2,750,000.

Contingent upon the availability of funds and the quality of applications, we may make additional awards in subsequent years from the list of unfunded applications from this competition.

Estimated Range of Awards: $400,000-$500,000.

Estimated Average Size of Awards: $450,000.

Estimated Number of Awards: 6.

Note: The Department is not bound by any estimates in this notice.

Project Period: Up to 60 months.

Note: Under ESEA section 6121(d)(1)(C), the Secretary awards grants for an initial period of not more than 36 months and may renew them for up to 24 months if the Secretary determines that the grantee has made substantial progress in carrying out activities under the grant.

III. Eligibility Information

1. Eligible Applicants: The following entities, either alone or in a consortium, are eligible under this program:

(a) A State educational agency.

(b) A local educational agency (LEA), including charter schools that are considered LEAs under State law.

(c) An Indian Tribe.

(d) An Indian organization.

(e) A federally supported elementary school or secondary school for Indian students.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: Under ESEA section 6121(e) and the Consolidated Appropriations Act, 2023, no more than 5 percent of the funds awarded for a grant may be used for direct administrative costs.

3. Subgrantees: A grantee under this competition may not award subgrants to entities to directly carry out project activities described in its application.

4. Other: Projects funded under this competition should budget two personnel for a 2-day project directors' meeting in Washington, DC, during each year of the project period.

IV. Application and Submission Information

1. Application Submission Instructions: Applicants are required to follow the Common Instructions for Applicants to Department of Education Discretionary Grant Programs, published in the Federal Register on December 7, 2022 (87 FR 75045), and available at https://www.federalregister.gov/documents/2022/12/07/2022-26554/common-instructions-for-applicants-to-department-of-education-discretionary-grant-programs. Please note that these Common Instructions supersede the version published on December 27, 2021.

2. Submission of Proprietary Information: Given the types of projects that may be proposed in applications for the Demonstration program, your application may include business information that you consider proprietary. In 34 CFR 5.11 we define “business information” and describe the process we use in determining whether any of that information is proprietary and, thus, protected from disclosure under Exemption 4 of the Freedom of Information Act (5 U.S.C. 552, as amended).

Because we plan to make successful applications available to the public by posting them on our website, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to no more than 30 pages, and (2) use the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, the letter(s) of support, or the signed consortium agreement. However, the recommended page limit does apply to all of the application narrative. An application will not be disqualified if it exceeds the recommended page limit.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from 34 CFR 263.24, 34 CFR 75.200, and 34 CFR 75.210. The maximum score for addressing each criterion and factor within each criterion is included in parentheses. The maximum score for these criteria is 100 points.

(a) Need for project (5 points). The Secretary considers the need for the proposed project. In determining the need for the proposed project, the Secretary considers the magnitude of the need for the services to be provided or the activities to be carried out by the proposed project. (Up to 5 points)

(b) Quality of project design (25 points).

The Secretary considers the quality of the design of the proposed project. In determining the quality of the design of the proposed project, the Secretary considers the following factors:

(1) The extent to which the goals, objectives, and outcomes to be achieved by the proposed project are clearly specified and measurable. (Up to 5 points)

(2) The extent to which the design of the proposed project is appropriate to, and will successfully address, the needs of the target population or other identified needs. (Up to 5 points)

(3) The extent to which there is a conceptual framework underlying the proposed research or demonstration activities and the quality of that framework. (Up to 5 points)

(4) The extent to which the proposed project is designed to build capacity and yield results that will extend beyond the period of Federal financial assistance. (Up to 5 points)

(5) The extent to which the design of the proposed project reflects up-to-date knowledge from research and effective practice. (Up to 5 points)

(c) Quality of project services (31 points).

The Secretary considers the quality of the project services. In determining the quality of the services to be provided by the proposed project, the Secretary considers the quality and sufficiency of strategies for ensuring equal access and treatment for eligible project participants who are members of groups that have traditionally been underrepresented based on race, color, national origin, gender, age, or disability. (Up to 3 points)

In addition, the Secretary considers the following factors:

(1) The extent to which the training or professional development services to be provided by the proposed project are likely to alleviate the personnel shortages that have been identified or are the focus of the proposed project. (Up to 13 points)

(2) The extent to which the training or professional development services to be provided by the proposed project are of sufficient quality, intensity, and duration to lead to improvements in practice among the recipients of those services. (Up to 15 points)

(d) Quality of project personnel (15 points).

The Secretary considers the quality of the personnel who will carry out the proposed project. In determining the quality of project personnel, the Secretary considers the extent to which the applicant encourages applications for employment from persons who are members of groups that have traditionally been underrepresented based on race, color, national origin, gender, age, or disability. (Up to 5 points)

In addition, the Secretary considers the following factors:

(1) The qualifications, including relevant training and experience, of the project director or principal investigator. (Up to 5 points)

(2) The qualifications, including relevant training and experience, of key project personnel. (Up to 5 points)

(e) Adequacy of resources (8 points).

The Secretary considers the adequacy of resources for the proposed project. In determining the adequacy of resources for the proposed project, the Secretary considers the following factors:

(1) The extent to which the budget is adequate to support the proposed project. (Up to 3 points)

(2) The potential for the incorporation of project purposes, activities, or benefits into the ongoing program of the agency or organization at the end of Federal funding. (Up to 5 points).

(f) Quality of the management plan (10 points).

The Secretary considers the quality of the management plan for the proposed project. In determining the quality of the management plan for the proposed project, the Secretary considers the following factors:

(i) The adequacy of the management plan to achieve the objectives of the proposed project on time and within budget, including clearly defined responsibilities, timelines, and milestones for accomplishing project tasks. (Up to 5 points)

(ii) The extent to which the time commitments of the project director and principal investigator and other key project personnel are appropriate and adequate to meet the objectives of the proposed project. (Up to 5 points)

(g) Quality of the project evaluation (6 points).

The Secretary considers the quality of the evaluation to be conducted of the proposed project. In determining the quality of the evaluation, the Secretary considers the following factors:

(1) The extent to which the methods of evaluation provide for examining the effectiveness of project implementation strategies. (Up to 3 points)

(2) The extent to which the evaluation will provide guidance about effective strategies suitable for replication or testing in other settings. (Up to 3 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this program, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements:

We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For the purposes of Department reporting under 34 CFR 75.110, we developed the following performance measure for measuring the overall effectiveness of NATRI:

The total number of Native American educators employed as educators at the beginning of the grant period who are still educators at the end of the performance period, if applicable.

The measure constitutes the Department's indicator of success for this program. Consequently, we advise an applicant for a grant under this program to carefully consider this measure in conceptualizing the approach to, and evaluation for, its proposed project. Each grantee will be required to provide, in its annual performance and final reports, data about its progress in meeting this measure.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF, you must have Adobe Acrobat Reader, which is available free at the site.

You may also access Department documents published in the Federal Register by using the article search feature at www.federalregister.gov. Specifically, through the advanced search feature at this site, you can limit your search to documents published by the Department.

James F. Lane,
Principal Deputy Assistant Secretary, Delegated the Authority to Perform the Functions and Duties of the Assistant Secretary, Office of Elementary and Secondary Education.

[FR Doc. 2023-10901 Filed 5-22-23; 8:45 am]

BILLING CODE 4000-01-P